DEPARTMENT OF LABOR

Employee Benefits Security Administration

Agency Information Collection Activities; Announcement of OMB Approvals

AGENCY: Employee Benefits Security Administration, Department of Labor.

ACTION: Notice.

SUMMARY: The Employee Benefits Security Administration (EBSA) announces that the Office of Management and Budget (OMB) has approved certain collections of information, listed in the Supplementary Information section below, following EBSA's submission of requests for such approvals under the Paperwork Reduction Act of 1995 (PRA) (44 U.S.C. 3501 et seq.). This notice describes the approved or re-approved information collections and provides their OMB control numbers and current expiration dates.

FOR FURTHER INFORMATION CONTACT:

G. Christopher Cosby, Office of Policy and Research, Employee Benefits Security Administration, U.S. Department of Labor, 200 Constitution Avenue NW, Room N-5718, Washington, DC 20210. Telephone: (202) 693-8410; Fax: (202) 219-4745. These are not toll-free numbers.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0089, Delinquent Filer Voluntary Compliance Program. The expiration date for this information collection is January 31, 2021.

• OMB Control No. 1210-0146, Request for Assistance from the Department of Labor, Employee Benefits Security Administration. The expiration date for this information collection is January 31, 2021.

• OMB Control No. 1210-0034, Alternative Method of Compliance for Certain Simplified Employee Pensions. The expiration date for this information collection is February 28, 2021.

• OMB Control No. 1210-0060, Employee Retirement Income Security Act of 1974 Section 408(a) Prohibited Transaction Provisions Exemption Application Procedure. The expiration date for this information collection is February 28, 2021.

• OMB Control No. 1210-0153, Alternative Reporting Methods for Apprenticeship and Training Plans and Top Hat Plans. The expiration date for this information collection is February 28, 2021.

• OMB Control No. 1210-0134, Investment Advice Participants and Beneficiaries. The expiration date for this information collection is February 28, 2021.

• OMB Control No. 1210-0121, Consent to Receive Employee Benefit Plan Disclosures Electronically. The expiration date for this information collection is May 31, 2021.

• OMB Control No. 1210-0112, Furnishing Documents to the Secretary of Labor on Request Under Employee Retirement Income Security Act Section 104(a)(6). The expiration date for this information collection is June 30, 2021.

• OMB Control No. 1210-0126, Annual Funding Notice for Defined Benefit Pension Plans. The expiration date for this information collection is August 31, 2021.

• OMB Control No. 1210-0133, Employee Retirement Income Security Act Section 408(b)(2) Regulation. The expiration date for this information collection is August 31, 2021.

• OMB Control No. 1210-0066, Employee Retirement Income Security Act Procedure 1976-1 Advisory Opinion Procedure. The expiration date for this information collection is November 30, 2021.

• OMB Control No. 1210-0114, Disclosures by Insurers to General Account Policyholders. The expiration date for this information collection is November 30, 2021.

• OMB Control No. 1210-0122, Employee Retirement Income Security Act Blackout Period. The expiration date for this information collection is November 30, 2021.

• OMB Control No. 1210-0084, Employee Retirement Income Security Act of 1974 Technical Release 1991-1. The expiration date for this information collection is November 30, 2021.

• OMB Control No. 1210-0110, Annual Information Return/Report of Employee Benefit Plan. The expiration date for this information collection is November 30, 2021.

• OMB Control No. 1210-0117, Registration for EFAST-2 Credentials, The expiration date for this information collection is November 30, 2021.

EBSA hereby notifies the public that the following information collection has been approved by OMB following EBSA's submission of an information collection request (ICR) for a revision of a currently approved collection:

• OMB Control No. 1210-0150, Coverage of Certain Preventative Services Under the Affordable Care Act—Private Sector. The expiration date for this information collection is November 30, 2021.

The PRA provides that an agency may not conduct or sponsor, and a person is not required to respond to, a collection of information unless it displays a currently valid OMB control number. Publication of this notice satisfies this requirement with respect to the above-listed information collections, as provided in 5 CFR 1320.5(b)(2)(C).

Joseph S. Piacentini,
Director, Office of Policy and Research, Employee Benefits Security Administration.

[FR Doc. 2019-05347 Filed 3-20-19; 8:45 am]

BILLING CODE 4510-29-P